DEPARTMENT OF HOMELAND SECURITY

Federal Emergency Management Agency

44 CFR Part 67

[Docket ID FEMA-2014-0002; Internal Agency Docket No. FEMA-B-1068]

Proposed Flood Elevation Determinations for Natchitoches Parish, Louisiana, and Incorporated Areas

AGENCY: Federal Emergency Management Agency, DHS.

ACTION: Proposed rule; withdrawal.

SUMMARY: The Federal Emergency Management Agency (FEMA) is withdrawing its proposed rule concerning proposed flood elevation determinations for Natchitoches Parish, Louisiana, and Incorporated Areas.

DATES: This withdrawal is effective April 29, 2014.

ADDRESSES: You may submit comments, identified by Docket No. FEMA-B-1068, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On September 15, 2009, FEMA published a proposed rulemaking at 74 FR 47182, proposing flood elevation determinations along one or more flooding sources in Natchitoches Parish, Louisiana. FEMA is withdrawing the proposed rulemaking and is no longer proposing flood elevation determination changes along the flooding sources identified in the above-referenced rulemaking publication.

Authority: 42 U.S.C. 4104; 44 CFR 67.4.

Dated: April 14, 2014.
Roy E. Wright,
Deputy Associate Administrator for Mitigation, Department of Homeland Security, Federal Emergency Management Agency.

[FR Doc. 2014-09736 Filed 4-28-14; 8:45 am]

BILLING CODE 9110-12-P